DEPARTMENT OF JUSTICE

Notice of Lodging of Consent Decree Under the Clean Air Act

Notice is hereby given that on December 14, 2007, a proposed Consent Decree in Barbara Fisher and the United States v. Perma-Fix of Dayton, Inc., Civil Action No. 3:04 CV 418, was lodged with the United States District Court for the Southern District of Ohio.

This case began as a citizen suit filed by Barbara Fisher against Perma-Fix of Dayton, Inc. (“Perma-Fix”) under section 304 of the Clean Air Act (“CAA” or “Act”) for violations of provisions of the federally enforceable Ohio State Implementation Plan (“SIP”) adopted pursuant to section 110 of the Act, 42 U.S.C. 7410; violations of the Title V Permit Program at section 502(a) of the Act, 42 U.S.C. 7661a, and 40 CFR 70.5(a) and 70.7(b), and Ohio Admin. Code Chapter 3745-77; violations of the National Emission Standards for Hazardous Air Pollutants (“NESHAP”) for Off-Site Waste Recovery Operations (the “OSWRO regulations”) codified at 40 CFR Part 63, Subpart DD; and violation of the nuisance provisions at Ohio Administrative Code 3745-15-07.

The United States intervened as a plaintiff in this action, seeking injunctive relief and civil penalties under section 113(b) of the Act, 42 U.S.C. 7413(b), against Perma-Fix for violations of the OSWRO NESAHAP regulations codified at 40 CFR Part 63, Subpart DD; the general NESHAP regulations at 40 CFR Part 63, Subpart A; the Title V Permit Program at section 502(a) of the Act, 42 U.S.C. 7661a, and 40 CFR 70.5(a) and 70.7(b), and Ohio Admin. Code Chapter 3745-77; and provisions in the federally enforceable Ohio SIP adopted pursuant to section 110 of the Act, 42 U.S.C. 7410. The violations occurred at Perma-Fix's industrial waste processing facility in Dayton, Ohio.

The proposed Consent Decree resolves the United States' claims against Perma-Fix. Under the proposed Consent Decree, Perma-Fix will implement a compliance program that includes: Implementation of certain pollution control measures at specified emission units; installation of a continuous monitoring system at the facility's regenerative thermal oxidizer (“RTO”); venting of certain vapor streams to the RTO; and engineering evaluation of airflow through the closed vent system to the RTO; visual inspection of vents, the closed vent system, and wastewater transfer lines; the implementation of standard operating procedures for the containment areas, the bioplant, and the solidification process; and the submission of applications for state-issued permits to install and an application for a Clean Air Act Title V permit. In addition, Perma-Fix will pay a civil penalty of $360,000 and perform three Supplemental Environmental Projects at the cost of at least $562,000.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to Barbara Fisher and the United States v. Perma-Fix of Dayton, Inc., D.J. Ref. 90-5-2-1-08318.

The proposed Consent Decree may be examined at the Office of the United States Attorney, Room 602, Federal Building, 200 W. Second Street, Dayton, Ohio 45402, and at U.S. EPA Region 5, 77 West Jackson Boulevard, Chicago, IL 60604. During the public comment period, the proposed Consent Decree may also be examined on the following Department of Justice Web site, to http://www. usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.25 (25 cents per page reproduction cost) payable to the U.S. Treasury or, if by e-mail or fax, forward a check in that moment to the Consent Decree Library at the stated address.

Thomas A. Mariani, Jr.,
Assistant Chief, Environmental Enforcement Section, Environment and Natural Resources Division.

[FR Doc. 07-6242 Filed 12-28-07; 8:45 am]

BILLING CODE 4410-15-M